DEPARTMENT OF HEALTH AND HUMAN SERVICES

Administration for Community Living

Administration on Intellectual and Developmental Disabilities, President's Committee for People With Intellectual Disabilities

AGENCY: Administration for Community Living, HHS.

ACTION: Notice.

DATES: Monday, August 3, 2015 from 9:00 a.m. to 4:30 p.m.; and Tuesday, August 4, 2015 from 9:30 a.m. to 4:00 p.m. These meetings will be open to the general public.

ADDRESSES: These meetings will be held in the U.S. Department of Health and Human Services/Hubert H. Humphrey Building located at 200 Independence Avenue SW., Conference Room 800, Washington, DC 20201.

Individuals who would like to participate via conference call may do so by dialing toll-free 888-469-0957, when prompted enter pass code: 8955387. Individuals whose full participation in the meeting will require special accommodations (e.g., sign language interpreting services, assistive listening devices, materials in alternative format such as large print or Braille) should notify Dr. MJ Karimi, PCPID Team Lead, via email at MJ.Karimie@acl.hhs.gov, or via telephone at 202-357-3588, no later than Monday, July 27, 2015. The PCPID will attempt to accommodate requests made after this date, but cannot guarantee the ability to grant requests received after the deadline. All meeting sites are barrier free, consistent with the Americans with Disabilities Act (ADA) and the Federal Advisory Committee Act (FACA).

Agenda: The Committee Members will discuss, finalize and approve the 2015 PCPID Report to the President. They will also begin exploring the topics for the next PCPID Report to the President.

FOR FURTHER INFORMATION CONTACT: For further information, please contact Dr. MJ Karimi, Team Lead, President's Committee for People with Intellectual Disabilities, One Massachusetts Avenue NW., Room 4206, Washington, DC 20201. Telephone: 202-357-3588. Fax: 202-205-8037. Email: MJ.Karimie@acl.hhs.gov

SUPPLEMENTARY INFORMATION: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) expansion of educational opportunities; (B) promotion of homeownership; (C) assurance of workplace integration; (D) improvement of transportation options; (E) expansion of full access to community living; and (F) increasing access to assistive and universally designed technologies.

Dated: June 24, 2015.
Aaron Bishop,
Commissioner, Administration on Intellectual and Developmental Disabilities (AIDD).

[FR Doc. 2015-16488 Filed 7-2-15; 8:45 am]

BILLING CODE 4154-01-P